DEPARTMENT OF TRANSPORTATION

Federal Aviation Administration

Fourteenth RTCA SC-230 Airborne Weather Detection Systems Plenary

AGENCY: Federal Aviation Administration (FAA), U.S. Department of Transportation (DOT).

ACTION: Fourteenth RTCA SC-230 Airborne Weather Detection Systems Plenary.

SUMMARY: The FAA is issuing this notice to advise the public of a meeting of Fourteenth RTCA SC-230 Airborne Weather Detection Systems Plenary.

DATES: The meeting will be held May 02-03, 2018 9:00 a.m.-5:00 p.m.

ADDRESSES: The meeting will be held at: RTCA Headquarters, 1150 18th Street NW, Suite 910, Washington, DC 20036.

FOR FURTHER INFORMATION CONTACT: Karan Hofmann at khofmann@rtca.org or 202-330-0680, or The RTCA Secretariat, 1150 18th Street NW, Suite 910, Washington, DC 20036, or by telephone at (202) 833-9339, fax at (202) 833-9434, or website at http://www.rtca.org.

SUPPLEMENTARY INFORMATION: Pursuant to section 10(a)(2) of the Federal Advisory Committee Act (Pub. L. 92-463, 5 U.S.C., App.), notice is hereby given for a meeting of the Fourteenth RTCA SC-230 Airborne Weather Detection Systems Plenary. The agenda will include the following:

Wednesday, May 2, 2018—9:00 a.m.-5:00 p.m.

1. Welcome and Administrative Remarks

2. Introductions

3. Agenda Review

4. Meeting Minutes Review and Approval of Last Plenary

5. Review and Work Resolution of Final Review and Comment (FRAC) Inputs for DO-220A Change 1 and DO-213A Change 1

Thursday, May 3, 2018—9:00 a.m.-5:00 p.m.

1. Continue Review and Work Resolution of FRAC Inputs For DO-220A Change 1 and DO-213A Change 1

2. Decision to Approve Release of DO-220A Change 1 and DO-213A Change 1 for Presentation to the Program Management Committee

3. Discuss and Approve Revision to Terms of Reference

4. Action Item Review

5. Any Other Business

6. Date and Place of Next Meeting

7. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC on March 28, 2018.
Michelle Swearingen,
Systems and Equipment Standards Branch, AIR-6B0, Policy and Innovation Division, AIR-600, Federal Aviation Administration.

[FR Doc. 2018-06600 Filed 3-30-18; 8:45 am]

BILLING CODE 4910-13-P